ENVIRONMENTAL PROTECTION AGENCY

[EPA-HQ-OPP-2010-0411; FRL-8826-7]

Calcium Hydroxide; Receipt of Application for Emergency Exemption, Solicitation of Public Comment

AGENCY: Environmental Protection Agency (EPA).

ACTION: Notice.

SUMMARY: EPA has received a quarantine exemption request from the Hawaii Department of Agriculture to use the pesticide calcium hydroxide (CAS No. 1305-62-0) to treat up to 1,000 acres of outdoor potted and field-grown ornamental plants, groundcover/floors, and perimeters of commercial nurseries to control Eleutherodactylus frogs. The applicant proposes the use of a new chemical which has not been registered by EPA.

EPA is soliciting public comment before making the decision whether or not to grant the exemption.

DATES: Comments must be received on or before 15 days after date of publication in the Federal Register.

ADDRESSES: Submit your comments, identified by docket identification (ID) number EPA-HQ-OPP-2010-0411, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0411. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Stacey Groce, Registration Division (7505P), Office of Pesticide Programs, Environmental Protection Agency, 1200 Pennsylvania Ave., NW., Washington, DC 20460-0001; telephone number: (703) 305-2505; fax number: (703) 605-0781; e-mail address: groce.stacey@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Submitting CBI. Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide discussed in this document, compared to the general population.

II. What Action is the Agency Taking?

Under section 18 of the Federal Insecticide, Fungicide, and Rodenticide Act (FIFRA) (7 U.S.C. 136p), at the discretion of the Administrator, a Federal or State agency may be exempted from any provision of FIFRA if the Administrator determines that emergency conditions exist which require the exemption. The Hawaii Department of Agriculture has requested the Administrator to issue a quarantine exemption for the use of calcium hydroxide on outdoor potted and field-grown ornamental plants, groundcover/floors, and perimeters of commercial nurseries to control Eleutherodactylus frogs. Information in accordance with 40 CFR part 166 was submitted as part of this request.

As part of this request, the Hawaii Department of Agriculture asserts that calcium hydroxide is necessary to control the tropical frogs, Eleutherodactylus coqui and E. planirostris, two relatively new species accidentally introduced to Hawaii from infested nursery plants. These species are native to the Caribbean, although one or both species is established on the continental United States in Florida, Louisiana, and Alabama. E. coqui is now firmly established on Maui, and the island of Hawaii with smaller populations on Kauai and Oahu; E. planirostris is also found on Kauai, Oahu, Maui, and the island of Hawaii. The sites where they are established include commercial plant nurseries, residential areas, resorts and hotels, forest habitats, and natural areas. The Eleutherodactylus coqui and E. planirostris species are spread to additional sites primarily through the transportation of infested plant materials to uninfested areas.

Further, the applicant asserts, that there is great concern that these tropical frogs pose a threat to the native Hawaiian forest ecosystem, including many endangered species. In particular, Eleutherodactylus frogs have the potential to be a serious threat to native endangered bird species. The E. coqui may exert predation pressure on a wide variety of native anthropods, many of which are already stressed because of the establishment of other alien predators and parasitoids. In addition, these frog species will compete for insect food sources with native birds, the majority of which are partially or completely insectivorous. The Hawaiian hoary bat and many anthropod species also depend upon insects and spiders as food sources. According to the quarantine exemption application, another concern is that the rapid increase in the populations of these frog species could provide a food source and increase the already large populations of introduced predators, such as rats and mongooses.

EPA granted the Hawaii Department of Agriculture a quarantine exemption in 2005 for use of calcium hydroxide to control Eleutherodactylus frogs. This quarantine exemption program expired on April 26, 2008. The applicant withdrew a subsequent request in 2008 for use of calcium hydroxide on 4,000 acres of outdoor plant nurseries, residential areas, resorts and hotels, parks, forest habitats, and natural areas throughout the entire state of Hawaii.

In this request, the Hawaii Department of Agriculture's projected acreage for 2010-2012 is 1,000 acres on outdoor potted and field-grown ornamental plants, groundcover/floors, and perimeters of commercial nurseries throughout the state of Hawaii in the following counties: Honolulu, Maui, Kauai, and Hawaii. According to the current submission, use of calcium hydroxide is proposed for application as follows:

1. For dust application at 500 pounds per acre (485 lbs. active ingredient (a.i.) per acre).

2. For foliar applications on potted or field-grown outdoor ornamental plants at 250 pounds of product per acre (242.5 lbs. a.i. per acre) at a 3% dilution.

3. For foliar applications on vegetation of nursery perimeters or as a soil drench at 500 pounds per acre (485 lbs. a.i. per acre) at a 6% dilution. A maximum of twelve applications may be made per site per year. Therefore, a total maximum of 18,000,000 lbs. (9,000 tons) of product or 17,280,000 lbs. (8,640 tons) of a.i. of calcium hydroxide can be applied to treated areas under this request.

This notice does not constitute a decision by EPA on the application itself. The regulations governing section 18 of FIFRA require publication of a notice of receipt of an application for a quarantine exemption proposing use of calcium hydroxide which has not been registered by EPA.

The notice provides an opportunity for public comment on this proposed application.

The Agency will review and consider all comments received during the comment period in determining whether to issue the quarantine exemption requested by the Hawaii Department of Agriculture.

List of Subjects

Environmental protection, Pesticides and pests.

Dated: May 12, 2010.
Lois Rossi,
Director, Registration Division, Office of Pesticide Programs.

[FR Doc. 2010-12100 Filed 5-20-10; 8:45 am]

BILLING CODE 6560-50-S